DEPARTMENT OF HEALTH AND HUMAN SERVICES

Administration for Children and Families

Submission for OMB Review; Comment Request

Title: Subsidized and Transitional Employment Demonstration (STED) and Enhanced Transitional Jobs Demonstration (ETJD).

OMB No.: New Collection.

Description: The Administration for Children and Families (ACF) within the U.S. Department of Health and Human Services (HHS) has launched a national evaluation called the Subsidized and Transitional Employment Demonstration (STED). At the same time, the Employment and Training Administration (ETA) within the Department of labor (DOL) is conducting an evaluation of the Enhanced Transitional Jobs Demonstration (ETJD). These evaluations will inform the Federal government about the effectiveness of subsidized and transitional employment programs in helping vulnerable populations secure unsubsidized jobs in the labor market and achieve self-sufficiency. The projects will evaluate up to twelve subsidized and transitional employment programs nationwide.

ACF and ETA are collaborating on the two evaluations. In 2011, ETA awarded grants to seven transitional jobs programs as part of the ETJD, which is testing the effect of combining transitional jobs with enhanced services to assist ex-offenders and noncustodial parents improve labor market outcomes, reduce criminal recidivism and improve family engagement.

The STED and ETJD projects have complementary goals and are focusing on related program models and target populations. Thus, ACF and ETA have agreed to collaborate on the design of data collection instruments to promote consistency across the projects. In addition, two of the seven DOL-funded ETJD programs will be evaluated as part of the STED Project.

The proposed information collection described here will be used for both the STED and ETJD projects. It is being submitted by ACE' on behalf of both collaborating agencies.

As noted earlier, each project plans to include a total of seven evaluation sites. However, because two of the ETJD sites will be evaluated under STED, the agencies estimate that there will be a total of twelve sites in the two projects combined. Individuals will be randomly assigned to a treatment or control group at each site.

Data for the study will be collected from the following three major sources:

1. Baseline Forms. Each subject will be asked to complete two data-collection forms upon entry into the study: (1) A contact sheet, which will obtain contact information for people who may help locate the subject for follow-up surveys; and (2) a baseline information form, which will collect demographic data and information on the subject's work and education history.

2. Follow-Up Surveys. Follow-up telephone surveys will be conducted with all participants. There will be three follow-up surveys in each of the five STED-only sites, approximately 6, 12, and 24 months after study entry. There will be up to three follow-up surveys, at approximately 6, 12 and 36 months, in the five ETJD sites that are not part of STED. In the two sites which are part of both the STED and ETJD projects, there will be follow-up surveys at approximately 6, 12, 24, and 36 months.

The 6-month survey is intended to gather information from treatment and control group members while treatment group members are still participating in—or have very recently completed—a subsidized job. It will focus on self efficacy, well-being, worksite experiences, and other domains that are most likely to be directly affected by employment.

The 12-month survey will collect data on study participants' receipt of services and attainment of education credentials, labor market status, material hardship, household income, criminal justice, self-sufficiency and family engagement, including, child support payments and parent-child contact. Participants will again be contacted 24 or 36 months after random assignment to follow-up and measure progress on similar domains as were measured at the 12-month point.

In addition to the surveys, each respondent will be contacted periodically by mail and asked to provide updated contact information.

3. Implementation Research and Site Visits. Data on the context for the programs and their implementation will be collected during two rounds of site visits to each of the twelve sites, including interviews, focus groups, observations, and case file reviews. These data will be supplemented by short questionnaires for program staff, clients, worksite supervisors, and participating employers, as well as a time-use study for program staff.

The purpose of this submission is to request approval of the baseline forms, the 6- and 12-month surveys, the implementation research protocols, and to request a waiver for subsequent 60-day notices for the other documents listed above.

Respondents: Study participants in the treatment and control groups will respond to the baseline and follow-up surveys. Program staff or employers who work with the subsidized employment programs, as well as clients participating in subsidized or transitional employment programs will respond to the implementation research interviews and questionnaires.

Annual Burden Estimates
Instrument | Annual number of respondents | Number of responses per respondent | Average burden hour per response | Annual estimated burdent hours¹
Participant Contact Information Form (5 STED sites) | 1,667 | 1 | .08 | 133
Participant Baseline Information Form (5 STED sites) | 1,667 | 1 | .17 | 283
Participant STED tracking letters | 770 | 5 | .05 | 193
Participant ETJD tracking letters | 550 | 6 | .05 | 165
Participant 6-month survey | 1,867 | 1 | .5 | 934
Participant 12-month survey | 3,200 | 1 | .75 | 2,400
Participant Implementation Questionnaire | 200 | 1 | .17 | 34
Participant Focus Group Discussion Guide | 80 | 1 | .75 | 60
Program Staff Implementation Questionnaire | 40 | 1 | .17 | 7
Worksite Supervisor Implementation Questionnaire | 80 | 1 | .17 | 14
Employer Implementation Questionnaire | 80 | 1 | .17 | 14
Program Staff Interview Guides | 40 | 2 | 1 | 80
Program Staff Cost Data Collection Protocol | 4 | 1 | 1 | 4
Employer Interview Guides | 8 | 2 | 1 | 16
Referral Partner Interview Guides | 8 | 2 | 1 | 16
Program Staff Time-Use Worksheet | 40 | 1 | 1 | 40

Estimated Total Annual Burden Hours: 4,393.

Additional Information

Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA_SUBMISSION@OMB.EOP.GOV, Attn: Desk Officer for the Administration for Children and Families.

Steven M. Hanmer,
OPRE Reports Clearance Officer.

[FR Doc. 2012-11188 Filed 5-9-12; 8:45 am]

BILLING CODE 4184-09-M